DEPARTMENT OF COMMERCE

International Trade Administration

[A-570-831]

Fresh Garlic From the People's Republic of China: Extension of Time Limits for the Preliminary Results of the 11th Administrative Review and New Shipper Reviews

AGENCY: Import Administration, International Trade Administration, Department of Commerce

DATES: Effective Date: September 19, 2006.

FOR FURTHER INFORMATION CONTACT: Alex Villanueva, AD/CVD Operations, Office 9, Import Administration, International Trade Administration, U.S. Department of Commerce, 14th Street and Constitution Avenue, NW., Washington DC 20230; telephone: (202) 482-3208.

Background

On December 22, 2005, the Department published a notice of initiation of a review of fresh garlic from the People's Republic of China (“PRC”), covering the period November 1, 2004, through October 31, 2005. See Initiation of Antidumping and Countervailing Duty Administrative Reviews and Requests for Revocation in Part, 70 FR 76024 (December 22, 2005). On December 28, 2005, the Department published a notice of initiation of new shipper reviews of fresh garlic from the PRC covering the period November 1, 2004, through October 31, 2005. See Fresh Garlic from the People's Republic of China: Initiation of New Shipper Reviews, 70 FR 76765 (December 28, 2005).

On April 28, 2006, the Department aligned the statutory time lines of the 11th administrative review and all but one of the new shipper reviews.¹ On June 14, 2006, the Department published a notice of an extension of time limits for the 11th administrative review and new shipper reviews. See Fresh Garlic from the People's Republic of China: Extension of Time Limits for the Preliminary Results of the 11th Administrative Review and New Shipper Reviews, 70 FR 34304 (June 14, 2006), which extended the deadline for the preliminary determination to October 2, 2006. On August 14, 2006, Qingdao Xintianfeng Foods Company Ltd. (“QXF”), whose new shipper review had not been aligned with the administrative review, agreed to waive the new shipper time limits.² On August 23, 2006, QXF submitted a letter stating that it agreed to the alignment of the new shipper review with the 11th administrative review and thus waiving the new shipper time limits. On August 14, 2006, the Department aligned the statutory time lines of the 11th administrative review with QXF's new shipper review.³

¹ See the Department's letter to All Interested Parties, dated April 28, 2006.

² See the Department's letter to All Interested Parties, dated August 14, 2006, where the Department notes that QXF agreed to waive the new shipper time limits.

³ Id.

Extension of Time Limit of Preliminary Results

The Department determines that completion of the preliminary results of these reviews within the statutory time period is not practicable. The 11th administrative review covers nine companies, and to conduct the sales and factor analyses for each requires the Department to gather and analyze a significant amount of information pertaining to each company's sales practices and manufacturing methods. The five new shipper reviews, including that of QXF, involve extraordinarily complicated methodological issues such as the use of intermediate input methodology, potential affiliation issues and the examination of importer information. The Department requires additional time to analyze these issues.

Therefore, given the number and complexity of issues in this case, and in accordance with section 751(a)(3)(A) of the Act and section 351.214(j)(3) of the Department's regulations, we are extending the time period for issuing the preliminary results of the instant review by 45 days until November 16, 2006. The final results continue to be due 120 days after the publication of the preliminary results. This notice is published in accordance with section 751(a)(3)(A) of the Act.

Dated: September 11, 2006.
Stephen J. Claeys,
Deputy Assistant Secretary for Import Administration.

[FR Doc. E6-15551 Filed 9-18-06; 8:45 am]

BILLING CODE 3510-DS-P